FEDERAL COMMUNICATIONS COMMISSION

[FRS 16980]

Open Commission Meeting Thursday, August 6, 2020

July 30, 2020.

The Federal Communications Commission will hold an Open Meeting on Thursday, August 6, 2020, which is scheduled to commence at 10:30 a.m. Due to the current COVID-19 pandemic and related agency telework and headquarters access policies, this meeting will be in a wholly electronic format and will be open to the public on the internet via live feed from the FCC's web page at www.fcc.gov/live and on the FCC's YouTube channel.

Item No. | Bureau | Subject
1 | OFFICE OF ECONOMICS & ANALYTICS AND WIRELESS TELE-COMMUNICATIONS | TITLE: C-band Auction Procedures (AU Docket No. 20-25)
|  | SUMMARY: The Commission will consider a Public Notice that would adopt procedures for the auction of new flexible-use overlay licenses in the 3.7-3.98 GHz band (Auction 107) for 5G, the internet of things, and other advanced wireless services.
2 | MEDIA | TITLE: Radio Duplication Rule (MB Docket No. 19-310); Modernization of Media Regulation Initiative (MB Docket No. 17-105)
|  | SUMMARY: The Commission will consider a Report and Order that would address the radio duplication rule.
3 | MEDIA | TITLE: Common Antenna Siting Rules (MB Docket No. 19-282); Modernization of Media Regulation Initiative (MB Docket No. 17-105)
|  | SUMMARY: The Commission will consider a Report and Order that would eliminate the common antenna siting rules for FM and TV broadcaster applicants and licensees.
4 | CONSUMER & GOVERNMENTAL AFFAIRS | TITLE: Telecommunications Relay Service (CG Docket No. 03-123)
|  | SUMMARY: The Commission will consider a Report and Order to repeal certain TRS rules that are no longer needed in light of changes in technology and voice communications services.
5 | WIRELINE COMPETITION | TITLE: Rates for Interstate Inmate Calling Services (WC Docket No. 12-375)
|  | SUMMARY: The Commission will consider a Report and Order on Remand and a Fourth Further Notice of Proposed Rulemaking that would respond to remands by the U.S. Court of Appeals for the District of Columbia Circuit and propose to comprehensively reform rates and charges for the inmate calling services within the Commission's jurisdiction.

The meeting will be webcast with open captioning at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Additional information concerning this meeting may be obtained from the Office of Media Relations, (202) 418-0500. Audio/Video coverage of the meeting will be broadcast live with open captioning over the internet from the FCC Live web page at www.fcc.gov/live.

Federal Communications Commission.
Marlene Dortch,
Secretary.

[FR Doc. 2020-17230 Filed 8-6-20; 8:45 am]

BILLING CODE 6712-01-P